DEPARTMENT OF ENERGY

Federal Energy Regulatory Commission

Notice of Issuance of Order

August 9, 2007.

BE Allegheny, LLC (Docket No. ER07-1112-000); BE CA LLC (Docket No. ER07-1113-000); BE Cleco LLC (Docket No. ER07-1114-000); BE Colquitt LLC (Docket No. ER07-1115-000); BE Ironwood LLC (Docket No. ER07-1116-000); BE KJ LLC (Docket No. ER07-1117-000); BE Rayle LLC (Docket No. ER07-1118-000); BE Red Oak LLC (Docket No. ER07-1119-000); BE Satilla LLC (Docket No. ER07-1120-000); BE Tenaska LLC (Docket No. ER07-1121-000); and BE Walton LLC (Docket No. ER07-1122-000)

BE Allegheny LLC, BE CA LLC, BE Cleco LLC, BE Colquitt LLC, BE Ironwood LLC, BE KJ LLC, BE Rayle LLC, BE Red Oak LLC, BE Satilla LLC, BE Tenaska LLC and BE Walton LLC (collectively, the BE Subsidiaries) filed applications for market-based rate authority, with accompanying rate schedules. The proposed market-based rate schedules provide for the sale of energy, capacity and ancillary services at market-based rates. The BE Subsidiaries also requested waivers of various Commission regulations. In particular, the BE Subsidiaries requested that the Commission grant blanket approval under 18 CFR Part 34 of all future issuances of securities and assumptions of liability by BE Subsidiaries.

On August 9, 2007, pursuant to delegated authority, the Director, Division of Tariffs and Rates-Central, granted the request for blanket approval under Part 34 (Director's Order). The Director's Order also stated that the Commission would publish a separate notice in the Federal Register establishing a period of time for the filing of protests. Accordingly, any person desiring to be heard concerning the blanket approvals of issuances of securities or assumptions of liability by the BE Subsidiaries, should file a protest with the Federal Energy Regulatory Commission, 888 First Street, NE., Washington, DC 20426, in accordance with Rules 211 and 214 of the Commission's Rules of Practice and Procedure. 18 CFR 385.211, 385.214 (2004).

Notice is hereby given that the deadline for filing protests is September 10, 2007.

Absent a request to be heard in opposition to such blanket approvals by the deadline above, the BE Subsidiaries are authorized to issue securities and assume obligations or liabilities as a guarantor, indorser, surety, or otherwise in respect of any security of another person; provided that such issuance or assumption is for some lawful object within the corporate purposes of the BE Subsidiaries, compatible with the public interest, and is reasonably necessary or appropriate for such purposes.

The Commission reserves the right to require a further showing that neither public nor private interests will be adversely affected by continued approvals of the BE subsidiaries issuance of securities or assumptions of liability.

Copies of the full text of the Director's Order are available from the Commission's Public Reference Room, 888 First Street, NE., Washington, DC 20426. The Order may also be viewed on the Commission's Web site at http://www.ferc.gov, using the eLibrary link. Enter the docket number excluding the last three digits in the docket number filed to access the document. Comments, protests, and interventions may be filed electronically via the Internet in lieu of paper. See, 18 CFR 385.2001(a)(1)(iii) and the instructions on the Commission's Web site under the “e-Filing” link. The Commission strongly encourages electronic filings.

Kimberly D. Bose,
Secretary.

[FR Doc. E7-16034 Filed 8-15-07; 8:45 am]

BILLING CODE 6717-01-P